DEPARTMENT OF EDUCATION

[CFDA No.: 84.215E]

Elementary School Counseling Demonstration Program

AGENCY: Department of Education.

ACTION: Notice inviting applications for new awards for Fiscal Year 2000.

Purpose of Program: To assist local educational agencies to establish or expand elementary school counseling programs.

Absolute Priority: Under 34 CFR 75.105(c)(3) and Title X, Section 10102 of the Elementary and Secondary Education Act, the Assistant Secretary gives an absolute preference to applications that meet the following priority. The Assistant Secretary funds under this competition only applications that meet this absolute priority.

Under the absolute funding priority for this grant competition, LEA projects must establish or expand elementary school counseling programs at schools with at least one grade below fifth and no grade higher than eighth.

Eligible Applicants: Local educational agencies.

Applications Available: April 18, 2000.

Deadline for Receipt of Applications: June 9, 2000.

Note: We must receive all applications no later than 4:30 p.m. Eastern Time on the deadline date. Applications received after that date and time will not be read. Postmarked dates will not be accepted. This requirement takes exception to the Education Department General Administrative Regulations (EDGAR), 34 CFR 75.102. Under the Administrative Procedure Act (5 U.S.C. 553), the Department generally offers interested parties the opportunity to comment on proposed regulations. However, this exception to EDGAR makes procedural changes only and does not establish new substantive policy. Therefore, under 5 U.S.C. 553 (b)(A), the Assistant Secretary for OESE has determined that proposed rulemaking is not required. Applications by mail should be sent to: U.S. Department of Education, Application Control Center, Attention: CFDA #84.215E, Room 3633, ROB #3, Washington, D.C. 20202-4725. The address for applications delivered by hand is: U.S. Department of Education, Application Control Center, Attention: CFDA #84.215E, Regional Office Building #3, Room 3633, 7th and D Streets, SW, Washington, DC 20202-4725.

Deadline For Intergovernmental Review: June 19, 2000.

Available Funds: $20,000,000.

Maximum Grant: $400,000.

Estimated Range of Awards: $250,000-$400,000.

Estimated Average Size of Awards: $325,000.

Estimated Number of Awards: 60.

Note: The Department is not bound by any estimates in this notice.

Project Period: Up to 36 months.

Applicable Regulations: (a) The Education Department General Administrative Regulations (EDGAR) in 34 CFR Parts 75, 77, 79, 80, 81, 82, 85, 97, 98, 99; and (b) the Notice of Final Priority and Selection Criteria for FY 2000 published elsewhere in this issue of the Federal Register.

For Applications or Information Contact: Loretta Riggans, Safe and Drug-Free Schools Program, 400 Maryland Avenue, SW, Room 3E220, Washington, DC 20202-6123. Telephone: (202) 260-2661. The e-mail address is:

loretta—riggans@ed.gov.

Internet: www.ed.gov/offices/OESE/SDFS.

If you use a telecommunications device for the deaf (TDD) may call the Federal Information Relay Service at 1-800-877-8339.

Individuals with disabilities may obtain this document in an alternative format, (e.g., Braille, large print, audiotape, or computer diskette) on request to the contact person listed in this section.

Electronic Access to This Document:

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498, or in the Washington, DC, area at (202) 512-1530.

Note: The official version of this document is the document published in the Federal Register. Free Internet access to the official edition of the Federal Register and the Code of Federal Regulations is available on GPO Access at: http://www.access.gpo.gov/nara/index.html

Program Authority: 20 U.S.C. 8002.

Michael Cohen,
Assistant Secretary for Elementary and Secondary Education.

[FR Doc. 00-9782 Filed 4-14-00; 1:52 pm]

BILLING CODE 4000-01-P